DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on proposed revisions to the Natural Gas Production Report, Form EIA-914.

DATES: Comments must be filed by December 18, 2007. If you anticipate difficulty in submitting comments within that period, contact the person listed below as soon as possible.

ADDRESSES: Send comments to Ms. Rhonda Green at U.S. Department of Energy, Energy Information Administration, Reserves and Production Division, 1999 Bryan Street, Suite 1110, Dallas, Texas 75201-6801. To ensure receipt of the comments by the due date, submission by FAX 214-720-6155 or e-mail (rhonda.green@eia. doe.gov) is also recommended. Alternatively, Ms. Green may be contacted by telephone at 214-720-6161.

FOR FURTHER INFORMATION CONTACT: Requests for additional information or copies of any forms and instructions should be directed to Ms. Rhonda Green at the contact information listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101, et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

Currently a sample of operators of natural gas wells report on the Form EIA-914. The sample consists of 220 of the largest natural gas operators by state or area, selected from a universe of about 8,400 operators known to have produced at least 1,000 cubic feet of natural gas per day in 2006. Using information collected on Form EIA-914, EIA estimates and disseminates timely and reliable monthly natural gas production data for Texas (onshore and offshore) and Louisiana (onshore and offshore), New Mexico, Oklahoma, Wyoming, the Federal Offshore Gulf of Mexico, Other States (onshore and offshore) with Alaska excluded, and the lower 48 States. This collection is essential to the mission of the DOE in general and the EIA in particular because of the increasing demand for natural gas in the United States and the requirement for accurate and timely natural gas production information necessary to monitor the United States natural gas supply and demand balance. These estimates are essential to the development, implementation, and evaluation of energy policy and legislation. Data are disseminated through the EIA Natural Gas Monthly and Natural Gas Annual and EIA's Web site. Secondary publications that use the data include EIA's Short-Term Energy Outlook, Annual Energy Outlook, Monthly Energy Review and Annual Energy Review.

II. Current Actions

This notice announces EIA's intent to expand the current Form EIA-914, Monthly Natural Gas Production Report, in the following ways.

• Rename the survey to Monthly Natural Gas and Crude Oil Production Report.

• Increase the number of data elements from two to four, adding crude oil and lease condensate production data elements to the existing data elements of gross natural gas and lease gas production.

• Expand the number of areas reported from 7 to 14, adding new areas Alaska (onshore and offshore), California (onshore and offshore), Federal Offshore Pacific, Colorado, Kansas, Montana, and North Dakota to the current areas which are the Federal Offshore Gulf of Mexico, Louisiana (onshore and offshore), New Mexico, Oklahoma, Texas (onshore and offshore), Wyoming, and Other States (remaining States, including their State Offshore).

The current survey sampling procedures will be modified to accommodate the new areas and two new data elements, but will remain similar to the existing methodology. The current survey was authorized to sample 350 natural gas operators, but now only a sample of 220 natural gas operators (from a universe of 8,400) is needed to provide sufficient coverage. For the expanded survey, there is a universe of about 11,300 crude oil well operators with each operator producing at least 1 barrel per day in 2006. However, there are major sampling efficiencies available to the expanded survey because most of the natural gas operators also produce crude oil and many of the large natural gas operators are also large crude oil producers. Only 130 of the largest oil and gas operators have to be added to the current sample of 220 natural gas operators to ensure sufficient coverage of natural gas, crude oil, and lease condensate for high quality production estimates in the 14 geographic areas. Public reporting burden for this collection is estimated at 4 hour per respondent per month (this reflects a 1 hour increase from the estimated burden for reporting natural gas production only on the current Form EIA-914). The estimated burden reflects the total time necessary for the average respondent to provide the requested information.

III. Request for Comments

Prospective respondents and other interested parties should comment on the actions discussed in item II. The following guidelines are provided to assist in the preparation of comments. In providing comments, please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated at 4 hour per respondent per month (this reflects a 1 hour increase from the estimated burden for reporting natural gas production only on the current Form EIA-914). The estimated burden reflects the total time necessary for the average respondent to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. 3501, et seq.).

Issued in Washington, DC October 11, 2007.
Jay H. Casselberry,
Agency Clearance Officer, Energy Information Administration.

[FR Doc. E7-20682 Filed 10-18-07; 8:45 am]

BILLING CODE 6450-01-P